DEPARTMENT OF TRANSPORTATION

Surface Transportation Board

[STB Finance Docket No. 35069]

Central Illinois Railroad Company—Operation Exemption—Rail Line of the City of Peoria, IL

Central Illinois Railroad Company (CIRY), a Class III rail carrier, has filed a verified notice of exemption under 49 CFR 1150.41 to operate a short segment of railroad, referred to as “the 1800-foot connection,” constructed and owned by the City of Peoria, IL (the City). CIRY states that it will be operating the segment pursuant to an interim agreement with the City which will be replaced by a longer term agreement. The connection joins a 1.9-mile segment of track, referred to as “the Western Connection,” that the City purchased from Union Pacific Railroad Company with an 8.29-mile segment, known as the Kellar Branch, that the City acquired from the former Chicago, Rock Island & Pacific Railroad Company.¹

¹ The City was granted an exemption to construct the connecting track in 2004, and CIRY received authority to operate the Kellar Branch (2004) and the Western Connection (2005), but neither entity received authority to operate the connecting track at that time. By decision served on June 27, 2007, in STB Finance Docket No. 34753, Central Illinois Railroad Company—Operation Exemption—Rail Line of the City of Peoria, IL, CIRY was directed to show cause by July 27, 2007, why it should not be required to obtain Board authority to operate over the connecting track or to cease operations over the trackage. CIRY states it is filing the instant exemption in direct response to the Board's June 27 decision.

CIRY certifies that its projected revenues as a result of the transaction will not result in the creation of a Class II or Class I rail carrier and will not exceed $5 million.

The earliest this transaction may be consummated is the August 23, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than August 16, 2007 (at least 7 days before the exemption becomes effective).

An original and 10 copies of all pleadings, referring to STB Finance Docket No. 35069, must be filed with the Surface Transportation Board, 395 E. Street, SW., Washington, DC 20423-0001. In addition, a copy of each pleading must be served on John D. Heffner, 1920 N. Street, NW., Suite 800, Washington, DC 20036.

Board decisions and notices are available on our Web site at http://www.stb.dot.gov.

Decided: August 7, 2007.
By the Board, David M. Konschnik, Director, Office of Proceedings.
Vernon A. Williams,
Secretary.

[FR Doc. E7-15732 Filed 8-10-07; 8:45 am]

BILLING CODE 4915-01-P